DEPARTMENT OF COMMERCE

National Oceanic and Atmospheric Administration

Agency Information Collection Activities; Submission to the Office of Management and Budget (OMB) for Review and Approval; Comment Request; Dr. Nancy Foster Scholarship Program

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on September 19, 2023 during a 60-day comment period. This notice allows for an additional 30 days for public comments.

Agency: National Oceanic and Atmospheric Administration, NOAA, Commerce.

Title: Dr. Nancy Foster Scholarship Program.

OMB Number(s): None.

Type of Request: Regular submission extension of a current information collection and revision.

Control Number: 0648-0432.

Form Number of Respondents: 190 (pre-application), 50 (full application).

Average Hours per Response: Pre-application: 3 hours; Application: 5 hours; Letters of recommendation: 45 minutes; Biographical sketch and photograph of awardees:1 hour; Annual progress reports: 4 hours; Two-year follow up survey: 10 minutes.

Total Annual Burden Hours: 570 burden hours for pre-application; 250 hours full application.

Needs and Uses: This is a request for extension of an existing information collection and a revision to include a pre-application component. NOAA's Office of National Marine Sanctuaries administers the Dr. Nancy Foster Scholarship Program which recognizes outstanding achievement in master's and doctoral degrees in oceanography, marine biology, or maritime archaeology—this can include but is not limited to ocean and/or coastal: engineering, social science, marine education, marine stewardship, resource management disciplines—and particularly to encourage women and members of minority groups to apply. The scholarship supports independent graduate level research through financial support of graduate degrees in such fields. Gender and minority status are not considered when selecting award recipients. However, special outreach efforts are employed to solicit applications from women and members of minority groups. Scholarships are distributed by disciplines, institutions, and geography, and by degree sought, with selections within distributions based on financial need, the potential for success in a graduate level studies program (academic achievement), and the potential for achieving research and career goals. Data collection in the form of a pre and full application, letters of recommendation, grade point average documents, research outline, a letter of financial need statement, and a declaration statement are all required to apply for the scholarship.

Affected Public: Individuals.

Frequency: Once.

Respondent's Obligation: Voluntary.

Legal Authority: 16 U.S.C. 1445c-1 and 16 U.S.C. 1445c.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Department PRA Clearance Officer, Office of the Under Secretary for Economic Affairs, Commerce Department.

[FR Doc. 2023-28113 Filed 12-20-23; 8:45 am]

BILLING CODE 3510-NK-P